ENVIRONMENTAL PROTECTION AGENCY

[FRL-6602-6]

Office of Research and Development Board of Scientific Counselors Notice of Charter Renewal

AGENCY: Environmental Protection Agency (EPA).

ACTION: Notice of charter renewal.

The Charter for the Environmental Protection Agency's Board of Scientific Counselors (BOSC) will be renewed for an additional two-year period, as a necessary committee which is in the public interest, in accordance with the provisions of the Federal Advisory Committee Act (FACA), 5 U.S.C. App. section 9(c). The purpose of the BOSC is to provide advice and recommendations to the Assistant Administrator for the Office of Research and Development (ORD) on issues associated with ORD's research program. It is determined that the BOSC is in the public interest in connection with the performance of duties imposed on the Agency by law. Inquiries may be directed to Shirley Hamilton, Designated Federal Officer, U.S. EPA, Office of Research and Development (mail code 8701-R), 1200 Pennsylvania Avenue, NW, Washington, DC 20460.

Dated: May 3, 2000.
Peter W. Preuss,
Director, National Center for Environmental Research.

[FR Doc. 00-11434 Filed 5-5-00; 8:45 am]

BILLING CODE 6560-50-U